DEPARTMENT OF HEALTH AND HUMAN SERVICES

Food and Drug Administration

Office of the Secretary

Office of the Commissioner of Food and Drugs; Delegation of Authority

Notice is hereby given that I have delegated to the Commissioner of Food and Drugs the authorities vested in the Secretary of Health and Human Services under section 4 of the Federal Cigarette Labeling and Advertising Act (FCLAA)(15 U.S.C. 1333), as amended by the Family Smoking Prevention and Tobacco Control Act (Tobacco Control Act).

These authorities may be redelegated. These authorities shall be exercised under the Department's policy on regulations and the existing delegation of authority to approve and issue regulations.

I hereby ratify and affirm any actions taken by the Commissioner of Food and Drugs, or other FDA officials, which involved the exercise of the authorities delegated herein prior to the effective date of this delegation. This delegation is effective upon date of signature.

Dated: November 9, 2010.
Kathleen Sebelius,
Secretary.

[FR Doc. 2010-29150 Filed 11-18-10; 8:45 am]

BILLING CODE 4140-01-P